DEPARTMENT OF AGRICULTURE

Food Safety and Inspection Service

[Docket No. 04-051N]

Codex Alimentarius Commission: Thirty-Seventh Session of the Codex Committee on Food Hygiene

AGENCY: Food Safety and Inspection Service, USDA.

ACTION: Notice of public meeting and request for comments.

SUMMARY: The Office of the Acting Under Secretary for Food Safety, United States Department of Agriculture (USDA), and the Food and Drug Administration (FDA), United States Department of Health and Human Services, are sponsoring a public meeting on February 2, 2005, to provide information and receive public comments on agenda items that will be discussed at the Thirty-seventh Session of the Codex Committee on Food Hygiene (CCFH) of the Codex Alimentarius Commission (Codex). The 37th Session of the CCFH will be held in Buenos Aires, Argentina, 14-19 March, 2005. The Acting Under Secretary and FDA recognize the importance of providing interested parties the opportunity to obtain background information on the agenda items that will be discussed at this forthcoming session of the CCFH.

DATES: The public meeting is scheduled for Wednesday, February 2, 2005 from 10 a.m. to 4 p.m.

ADDRESSES: The public meeting will be held in the Conference Room 1A001, Harvey W. Wiley Federal Building, 5100 Paint Branch Parkway, College Park, MD. Documents related to the 37th Session of CCFH will be accessible via the World Wide Web at the following address: http://www.codexalimentarius.net/current.asp.

FSIS invites interested persons to submit comments on this notice. Comments may be submitted by any of the following methods:

• Mail, including floppy disks or CD-ROMs, and hand- or courier-delivered items: Send to the FSIS Docket Clerk, U.S. Department of Agriculture, Food Safety and Inspection Service, 300 12th Street, SW., Room 102, Cotton Annex, Washington, DC 20730. All comments received must include the Agency name and docket number 04-051N.

All comments submitted in response to this notice will be available for public inspection in the FSIS Docket Room at the address listed above between 8:30 a.m. and 4:30 p.m., Monday through Friday. The comments also will be posted on the Agency's Web site at http://www.fsis.usda.gov/regulations/2005_Notices_Index/.

For Further Information About the 37th Session of the CCFH Contact: U.S. Delegate, Dr. Robert Buchanan, CFSAN Senior Science Advisor and Director of the CFSAN Office of Science, DHHS, FDA, CFSAN, 5100 Paint Branch Parkway, College Park, Maryland 20740. Phone (301) 436-2396; Fax (301) 436-2642, Email: Robert.Buchanan@fda.hhs.gov.

For Further Information About the Public Meeting Contact: Syed Amjad Ali, International Issues Analyst, U.S. Codex Office, FSIS, Room 4861, South Agriculture Building, 1400 Independence Avenue SW., Washington, DC 20250-3700. Phone (202) 205-7760; Fax (202) 720-3157. Persons requiring a sign language interpreter or other special accommodations should notify Dr. Rebecca Buchner, FDA at telephone (301) 436-1486, Fax (301) 436-2632.

SUPPLEMENTARY INFORMATION:

Background

The Codex Alimentarius Commission (Codex) was established in 1962 by two United Nations organizations, the Food and Agriculture Organization (FAO) and the World Health Organization (WHO). Codex is the major international standard-setting organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex Committee on Food Hygiene (CCFH) was established to draft basic provisions on food hygiene for all foods. The Committee is chaired by the United States of America.

Issues To Be Discussed at the Public Meeting

The following items on the agenda for the 37th Session of CCFH will be discussed during the public meeting:

1. Matters referred by the Codex Alimentarius Commission and other Codex Committees.

2. Discussion paper on the management of the work of the Committee.

3. Proposed draft guidelines on the application of general principles of food hygiene to the [management] of Listeria monocytogenes in foods.

4. Proposed draft principles and guidelines for the conduct of microbiological risk management results.

5. Proposed draft guidelines for the validation of food hygiene control measures.

6. Proposed draft revision of the code of hygienic practice for egg products.

7. Discussion paper on guidelines for the application of the general principles of food hygiene to the risk based control of Salmonella spp. in poultry.

8. Discussion paper on guidelines for risk management options for Campylobacter in broiler chickens.

9. Discussion paper on guidelines for the application of the general principles of food hygiene to the risk based control of Enterohemorragic E. coli in ground beef and fermented sausages.

10. Risk profile of Vibrio spp in seafood.

11. Reports of the ad hoc FAO/WHO expert consultations on risk assessment of microbiological hazards in food and related matters.

Each issue listed will be fully described in documents distributed, or to be distributed, by the United States Secretariat to the Meeting. Members of the public may access copies of these documents (see ADDRESSES).

Public Meeting

At the February 2, 2005 public meeting, these agenda items will be described, discussed, and attendees will have the opportunity to pose questions and offer comments. Written comments may be offered at the meeting or sent to the U.S. Delegate, for the 37th Session of the CCFH, Dr. Robert Buchanan (See ADDRESSES). Written comments should state that they relate to activities of the 37th Session of the CCFH.

Additional Public Notification

Public awareness of all segments of rulemaking and policy development is important. Consequently, in an effort to ensure that the public and in particular minorities, women, and persons with disabilities are aware of this notice, FSIS will announce it on-line through the FSIS Web page located at http://www.fsis.usda.gov.

FSIS also will make copies of this Federal Register publication available through the FSIS Constituent Update, which is used to provide information regarding FSIS policies, procedures, regulations, Federal Register notices, FSIS public meeting, recalls, and other types of information that could affect or would be of interest to our constituents and stakeholders. The update is communicated via Listserv, a free e-mail subscription service consisting of industry, trade, and farm groups, consumer interest groups, allied health professionals, scientific professionals, and other individuals who have requested to be included. The update is available on the FSIS Web page. Through Listserv and the Web page, FSIS is able to provide information to a much broader, more diverse audience.

Done in Washington, DC, on: January 12, 2005.
F. Edward Scarbrough,
U.S. Manager for Codex Alimentarius.

[FR Doc. 05-935 Filed 1-14-05; 8:45 am]

BILLING CODE 3410-DM-P